DEPARTMENT OF COMMERCE

National Oceanic and Atmospheric Administration

Notice of Availability of a Draft Environmental Impact Statement for the Proposed Lake Ontario National Marine Sanctuary; Announcement of Public Meetings

AGENCY: Office of National Marine Sanctuaries (ONMS), National Ocean Service (NOS), National Oceanic and Atmospheric Administration (NOAA), Department of Commerce (DOC).

ACTION: Notice of virtual public meetings; correction.

SUMMARY: The National Oceanic and Atmospheric Administration (NOAA) has prepared a draft environmental impact statement (DEIS) for the proposed designation of a national marine sanctuary to manage a nationally significant collection of shipwrecks and other underwater cultural resources in New York's eastern Lake Ontario and the Thousand Islands region of the St. Lawrence River. NOAA previously announced public meetings during the comment period, and is replacing the two in-person meetings with additional virtual meetings and providing registration links for the previously announced virtual meetings.

DATES: NOAA will continue to accept comments received by September 10, 2021. NOAA will conduct a total of four virtual public meetings on the following dates:

(1) Date: Wednesday, August 18, 2021

Location and time: Virtual Meeting, 6:30-8:30 p.m. EDT

Registration via this link: https://attendee.gotowebinar.com/register/8226916950939600400

By phone: (415) 655-0060

Access Code: 439-509-724. Audio PIN: Shown after joining the webinar

(2) Date: Thursday, August 19, 2021

Location and time: Virtual Meeting, 6:30-8:30 p.m. EDT

Registration via this link: https://attendee.gotowebinar.com/register/8864690869654406928

By phone: (914) 614-3221

Access Code: 237-285-132. Audio PIN: Shown after joining the webinar

(3) Date: Tuesday, August 24, 2021

Location and time: Virtual Meeting, 2:30 to 4 p.m. EDT

Registration via this link: https://register.gotowebinar.com/register/5067664901003984652

Access code: 346-751-009. Audio PIN: Shown after joining the webinar

By phone: (562) 247-8422, PIN: 346-751-009

(4) Date: Thursday, August 26, 2021

Location and time: Virtual Meeting, 6:30 p.m. to 8 p.m. EDT

Registration via this link: https://register.gotowebinar.com/register/2978792919345892364

By phone: (415) 655-0052, PIN: 819-641-913

ADDRESSES: Copies of the DEIS can be downloaded or viewed on the internet at www.regulations.gov (search for docket NOAA-NOS-2021-0050) or at http://sanctuaries.noaa.gov/lake-ontario/. Copies can also be obtained by contacting Ellen Brody (in the FOR FURTHER INFORMATION CONTACT section of this notice).

FOR FURTHER INFORMATION CONTACT: Ellen Brody, Great Lakes Regional Coordinator, address: 4840 South State Road, Ann Arbor, MI 48108-9719; phone: 734-276-6387; email: ellen.brody@noaa.gov.

SUPPLEMENTARY INFORMATION:

Background

In accordance with the National Environmental Policy Act (NEPA, 42 U.S.C. 4321 et seq.) and the NMSA (16 U.S.C. 1434), NOAA prepared a DEIS for a proposed national marine sanctuary in New York's eastern Lake Ontario and the Thousand Islands region of the St. Lawrence River. NOAA announced the availability of the DEIS in a notice issued on July 7, 2021 (86 FR 35757). In that notice, NOAA announced there would be four public meetings, two of which were planned to be virtual meetings, and two of which NOAA planned to hold in person. When the notice was issued, NOAA included a caveat to the in-person meetings stating “A virtual meeting platform may substitute if public safety concerns remain to prevent the spread of COVID-19.”

NOAA has determined that the two meetings previously scheduled for August 18, 2021 and August 19, 2021 will now be conducted virtually. Interested parties should register to attend a virtual meeting via the information provided in the DATES section of this notice or at https://sanctuaries.noaa.gov/lake-ontario/.

(Authority: 16 U.S.C. 1431 et seq.)

Rebecca R. Holyoke,
Acting Director, Office of National Marine Sanctuaries, National Ocean Service, National Oceanic and Atmospheric Administration.

[FR Doc. 2021-16639 Filed 8-3-21; 8:45 am]

BILLING CODE 3510-NK-P